DEPARTMENT OF ENERGY

Federal Energy Regulatory Commission

[Docket Nos. CP88-391-026 and RP93-162-011]

Transcontinental Gas Pipe Line Corporation; Notice of Cash-Out Report

October 5, 2001.

Take notice that on September 28, 2001 Transcontinental Gas Pipe Line Corporation (Transco) filed its annual cash-out report for the period August 1, 2000 through July 31, 2001. The report was filed to comply with the cash-out provisions in Section 15 of the General Terms and Conditions of Transco's FERC Gas Tariff.

Transco states that the report shows that for the annual cash-out period ending July 31, 2000, Transco received revenues in excess of costs incurred. Therefore, in accordance with Section 15 of the General Terms and Conditions Transco has refunded excess revenues in the amount of $2,319,365 to firm and interruptible transportation customers on a pro rata basis in accordance with the transportation quantities delivered during the annual period ending July 31, 2001.

Any person desiring to protest said filing should file a protest with the Federal Energy Regulatory Commission, 888 First Street, NE., Washington, DC 20426, in accordance with Section 385.211 of the Commission's Rules and Regulations. All such protests must be filed on or before October 12, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-25622 Filed 10-11-01; 8:45 am]

BILLING CODE 6717-01-P